DEPARTMENT OF TRANSPORTATION

Federal Aviation Administration

Notice of Opportunity for Public Comment on a Land Use Change From Aeronautical to Non-Aeronautical Use for 4.2 Acres of Airport Land for Solar Farm Use at Newport Airport, Middletown, RI

AGENCY: Federal Aviation Administration (FAA), DOT.

ACTION: Request for public comments.

SUMMARY: Notice is being given that the FAA is considering a request from the Rhode Island Airport Corporation (RIAC), to change the current land use from aeronautical use to non-aeronautical use of a 4.2-acre parcel of land. The parcel is located in the western quadrant of the airport. The Airport Layout Plan was updated with a Pen and Ink Change to designate the parcel for non-aeronautical use. The annual savings in electrical costs created by the solar farm will offset the fair market value of the land lease over the lease period.

DATES: Comments must be received on or before October 16, 2017.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE., Washington, DC 20590.

• Hand Delivery: Deliver to mail address above between 9 a.m. and 5 p.m., Monday through Friday, except Federal holidays.

Interested persons may inspect the request and supporting documents by contacting the FAA at the address listed under FOR FURTHER INFORMATION CONTACT PERSON.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts on September 6, 2017.
Richard Doucette,
Acting Manager, ANE-600.

[FR Doc. 2017-19782 Filed 9-15-17; 8:45 am]

BILLING CODE 4910-13-P